DEPARTMENT OF ENERGY

Agency Information Collection Extension

AGENCY: U.S. Department of Energy.

ACTION: Notice and request for OMB review and comment.

SUMMARY: The Department of Energy (DOE), pursuant to the Paperwork Reduction Act of 1995, intends to extend for three years, an information collection request with the Office of Management and Budget (OMB). All Federal agencies administering programs subject to Davis-Bacon wage provisions are required to submit to the Department of Labor (DOL) a report of all new covered contracts/projects and all compliance and enforcement activities every six months. In order for the DOE to comply with this reporting requirement, it must collect contract and enforcement information from Recovery Act funded Loan and Loan Guarantee Borrowers, DOE direct contractors, and other prime contractors that administer DOE programs subject to Davis-Bacon requirements.

DATES: Comments regarding this collection must be received on or before March 2, 2018. If you anticipate that you will be submitting comments, but find it difficult to do so within the period of time allowed by this notice, please advise the OMB Desk Officer of your intention to make a submission as soon as possible. The Desk Officer may be telephoned at (202) 395-4650.

ADDRESSES: Written comments should be sent to: DOE Desk Officer at Office of Information and Regulatory Affairs, Office of Management and Budget, New Executive Office Building, Room 10102, 735 17th Street NW, Washington, DC 20503.

And to: John M. Sullivan, GC-63, Department of Energy, 1000 Independence Ave. SW, Washington, DC 20585; Fax: (202) 586-0971; or email at: john.m.sullivan@hq.doe.gov.

FOR FURTHER INFORMATION CONTACT: Requests for additional information or copies of the information collection instrument and instructions should be directed to John M. Sullivan, GC-63, Department of Energy, 1000 Independence Ave. SW, Washington, DC 20585; Fax: (202) 586-0971; or email at: john.m.sullivan@hq.doe.gov.

SUPPLEMENTARY INFORMATION: This information collection request contains: (1) OMB No. 1910-5165; (2) Information Collection Request Title: Davis-Bacon Semi-Annual Labor Compliance Report; (3) Type of Request: Three-year extension without changes; (4) Purpose: To obtain information from the Department of Energy Management and Operation, Facilities Management Contractors, and recipients of financial assistance whose work is subject to the Davis-Bacon Act; (5) Annual Estimated Number of Respondents: 75; (6) Annual Estimated Number of Total Responses: 150; (7) Annual Estimated Number of Burden Hours: 2 per respondent for total of 300 hours per year; (8) Annual Estimated Reporting and Recordkeeping Cost Burden: $0.00 annually.

Statutory Authority: 29 CFR part 5, Section 5.7(b).

Issued in Washington, DC, on January 25, 2018.
Jean S. Stucky,
Assistant General Counsel for Contractor Human Resources, Office of the General Counsel.

[FR Doc. 2018-01888 Filed 1-30-18; 8:45 am]

BILLING CODE 6450-01-P